DEPARTMENT OF HOMELAND SECURITY

Coast Guard

33 CFR Part 117

[Docket No. USCG-2017-0228]

Drawbridge Operation Regulation; Brielle Draw Bridge, Manasquan River, Point Pleasant, NJ

AGENCY: Coast Guard, DHS.

ACTION: Notice of deviation from drawbridge regulation.

SUMMARY: The Coast Guard has issued a temporary deviation from the operating schedule that governs the New Jersey Coast Line's Brielle Viaduct across the Manasquan River, mile 0.9, at Point Pleasant, NJ. The deviation is necessary to facilitate maintenance and inspection of the rail road tracks. This deviation allows the bridge to remain in the closed-to-navigation position.

DATES: This deviation is effective from 2 a.m. on April 1, 2017, through 7 p.m. on April 9, 2017.

ADDRESSES: The docket for this deviation, [USCG-2017-0228] is available at http://www.regulations.gov. Type the docket number in the “SEARCH” box and click “SEARCH”. Click on Open Docket Folder on the line associated with this deviation.

FOR FURTHER INFORMATION CONTACT: If you have questions on this temporary deviation, call or email Mr. Mickey Sanders, Bridge Administration Branch Fifth District, Coast Guard; telephone (757) 398-6587, email Mickey.D.Sanders2@uscg.mil.

SUPPLEMENTARY INFORMATION: The New Jersey Transit, owner and operator of the New Jersey Coast Line's Brielle Viaduct across the Manasquan River, mile 0.9, at Point Pleasant, NJ, has requested a temporary deviation from the current operating schedule to accommodate a routine maintenance and inspection of the rail road tracks. The bridge has a vertical clearance of 3 feet above mean high water (MHW) in the closed position.

The current operating schedule is set out in 33 CFR 117.5. Under this temporary deviation, the bridge will be maintained in the closed-to-navigation position from 2 a.m. until 7 p.m. from April 1, 2017, through April 9, 2017. During the closure periods, the bridge will open on signal if at least 15 minutes notice is given. The bridge will open on signal at all other times.

The Manasquan River is used by a variety of vessels including small commercial vessels, recreational vessels and tug and barge traffic. The Coast Guard has carefully considered the nature and volume of vessel traffic on the waterway in publishing this temporary deviation.

Vessels able to pass through the bridge in the closed position may do so at any time. The bridge will be able to open for emergencies. The Coast Guard will also inform the users of the waterway through our Local and Broadcast Notice to Mariners of the change in operating schedule for the bridge so that vessel operators can arrange their transits to minimize any impact caused by this temporary deviation.

In accordance with 33 CFR 117.35(e), the drawbridge must return to its regular operating schedule immediately at the end of this effective period of this temporary deviation. This deviation from the operating regulations is authorized under 33 CFR 117.35.

Dated: March 22, 2017.
Hal R. Pitts,
Bridge Program Manager, Fifth Coast Guard District.

[FR Doc. 2017-06014 Filed 3-24-17; 8:45 am]

BILLING CODE 9110-04-P